DEPARTMENT OF THE INTERIOR

Bureau of Land Management

[LLWO260000.L10600000.PC0000.LXSIADVSBD00]

Notice of Wild Horse and Burro Advisory Board Meeting; Correction

AGENCY: Bureau of Land Management, Interior.

ACTION: Correction.

SUMMARY: This notice corrects two dates that appear in the SUPPLEMENTARY INFORMATION section of a notice that published in the Federal Register on Wednesday, March 23, 2016 (81 FR 15555).

On page 15555, column 3, line 24 of the notice, which reads “Wednesday, April, 13, 2015,” is corrected to read, “Wednesday, April 13, 2016.”

On page 15555, column 3, line 35 of the notice, which reads “Thursday, September 3, 2015” is corrected to read, “Thursday, April 14, 2016.”

Kristin Bail,
Acting Assistant Director, Resources and Planning.

[FR Doc. 2016-07273 Filed 3-30-16; 8:45 am]

BILLING CODE 4310-84-P